PENSION BENEFIT GUARANTY CORPORATION

Proposed Submission of Information Collection for OMB Review; Comment Request; Request for Coverage Determination Form

AGENCY: Pension Benefit Guaranty Corporation.

ACTION: Notice of intent to request extension of OMB approval of information collection.

SUMMARY: The Pension Benefit Guaranty Corporation (PBGC) intends to request that the Office of Management and Budget (OMB) extend approval, with modifications, under the Paperwork Reduction Act, of a collection of information necessary for PBGC to determine whether a plan is covered under title IV of the Employee Retirement Security Income Act of 1974. This notice informs the public of PBGC's intent and solicits public comment on the collection of information, as modified.

DATES: Comments must be submitted on or before May 9, 2025.

ADDRESSES: Comments may be submitted by any of the following methods:

• Federal eRulemaking Portal: https://www.regulations.gov. Follow the online instructions for submitting comments.

• Email: paperwork.comments@pbgc.gov. Refer to OMB control number 1212-0072 in the subject line.

• Mail or Hand Delivery: Regulatory Affairs Division, Office of the General Counsel, Pension Benefit Guaranty Corporation, 445 12th Street SW, Washington, DC 20024-2101.

Commenters are strongly encouraged to submit comments electronically. Commenters who submit comments on paper by mail should allow sufficient time for mailed comments to be received before the close of the comment period.

All submissions received must include the agency's name (Pension Benefit Guaranty Corporation, or PBGC) and refer to OMB control number 1212-0072. All comments received will be posted without change to PBGC's website, www.pbgc.gov, including any personal information provided. Do not submit comments that include any personally identifiable information or confidential business information.

Copies of the collection of information may be obtained without charge by writing to the Disclosure Division (disclosure@pbgc.gov), Office of the General Counsel, Pension Benefit Guaranty Corporation, 445 12th Street SW, Washington, DC 20024-2101, or calling 202-229-4040 during normal business hours. If you are deaf or hard of hearing, or have a speech disability, please dial 7-1-1 to access telecommunications relay services.

FOR FURTHER INFORMATION CONTACT: Monica O'Donnell (odonnell.monica@pbgc.gov), Attorney, Regulatory Affairs Division, Office of the General Counsel, Pension Benefit Guaranty Corporation, 445 12th Street SW, Washington DC 20024-2101; 202-229-8706. If you are deaf or hard of hearing, or have a speech disability, please dial 7-1-1 to access telecommunications relay services.

SUPPLEMENTARY INFORMATION: The Pension Benefit Guaranty Corporation (PBGC) intends to request that the Office of Management and Budget (OMB) extend approval, under the Paperwork Reduction Act, of a collection of information that filers use to request that PBGC determine whether a defined benefit pension plan is covered under title IV of the Employee Retirement Income Security Act of 1974 (ERISA). (OMB control number 1212-0072; expires June 30, 2025). This notice informs the public of PBGC's intent and solicits public comment on the collection of information.

A plan is covered under title IV, and thereby insured by PBGC, if it is described in section 4021(a) of ERISA and does not meet one of the exemptions from coverage listed in section 4021(b)(1)-(13). If a question arises about whether a plan is covered under title IV, a plan may submit the Request for Coverage Determination form to PBGC.

The Request for Coverage Determination form and corresponding instructions are suitable for all types of requests, but they highlight the four plan types for which coverage determinations are most frequently requested: (1) church plans as listed in section 4021(b)(3) of ERISA; (2) plans that are established and maintained exclusively for the benefit of plan sponsors' substantial owners as listed in section 4021(b)(9); (3) plans that cover, since September 2, 1974, no more than 25 active participants and that are established and maintained by professional services employers as listed in section 4021(b)(13); and (4) Puerto Rico-based plans within the meaning of section 1022(i)(1) of ERISA. PBGC needs the information requested to determine whether a plan is covered or not covered under title IV of ERISA.

PBGC's pilot program that specifically provided for a prospective plan to request a coverage determination when the plan was proposed but not yet established expired September 30, 2022. PBGC is removing outdated references to the pilot program in question 4 of Part II of the form and instructions. PBGC is also proposing to revise question 3 of Part III of the form, relating to substantial owners plans, to require a list of all the limited liability company's (LLC) members (if the employer sponsor is an LLC) rather than a statement on how the LLC is treated for federal tax purposes for clarity. Lastly, PBGC is proposing editorial changes to question 4 of part III and question 3 of part V to provide greater clarity to filers.

The existing collection of information is approved through June 30, 2025, under OMB control number 1212-0072. PBGC intends to request that OMB extend its approval of this collection of information, with modifications, for 3 years. An agency may not conduct or sponsor, and a person is not required to respond to, a collection of information unless it displays a currently valid OMB control number.

PBGC estimates that each year there will be 295 Request for Coverage Determination forms submitted to PBGC. PBGC further estimates the average hour burden is 1.5 hours and average cost burden is $300. The total estimated annual burden of the collection of information is 442.5 hours and $88,500.

PBGC is soliciting public comments to—

• Evaluate whether the proposed collection of information is necessary for the proper performance of the functions of the agency, including whether the information will have practical utility;

• Evaluate the accuracy of the agency's estimate of the burden of the proposed collection of information, including the validity of the methodologies and assumptions used;

• Enhance the quality, utility, and clarity of the information to be collected; and

• Minimize the burden of the collection of information on those who are to respond, including through the use of appropriate automated, electronic, mechanical, or other technological collection techniques or other forms of information technology (e.g., permitting electronic submission of responses).

Issued in Washington, DC.
Hilary Duke,
Assistant General Counsel for Regulatory Affairs, Pension Benefit Guaranty Corporation.

[FR Doc. 2025-03757 Filed 3-7-25; 8:45 am]

BILLING CODE 7709-02-P